DEPARTMENT OF AGRICULTURE

Agricultural Marketing Service

[Doc. Number AMS-FV-10-0047, FV-16-330]

United States Standards for Grades of Cauliflower

AGENCY: Agricultural Marketing Service, USDA.

ACTION: Notice.

SUMMARY: The Agricultural Marketing Service (AMS) is revising the United States Standards for Grades of Cauliflower. The revision amends the color requirement to allow all colors of cauliflower to be certified to a U.S. grade. In addition, AMS is amending the size requirement to allow curds less than 4 inches in diameter to be certified to a grade, adding marking requirements for curd sizes less than 4 inches in diameter, and removing references to an unclassified category of cauliflower.

DATES: Effective June 26, 2017.

ADDRESSES: Standardization Branch, Specialty Crops Inspection Division, Specialty Crops Program, Agricultural Marketing Service, U.S. Department of Agriculture, National Training and Development Center, Riverside Business Park, 100 Riverside Parkway, Suite 101, Fredericksburg, VA 22406.

FOR FURTHER INFORMATION CONTACT: Contact Dave Horner at the address above, or at phone (540) 361-1128; fax (540) 361-1199; or, email Dave.Horner@ams.usda.gov. The current U.S. Standards for Grades of Cauliflower are available on the Specialty Crops Inspection Division Web site at http://www.ams.usda.gov/grades-standards/cauliflower-grades-and-standards.

SUPPLEMENTARY INFORMATION: Section 203(c) (7 U.S.C. 1622(c)) of the Agricultural Marketing Act of 1946 (7 U.S.C. 1621-1627), as amended, directs and authorizes the Secretary of Agriculture “to develop and improve standards of quality, condition, quantity, grade, and packaging, and recommend and demonstrate such standards in order to encourage uniformity and consistency in commercial practices.” AMS is committed to carrying out this authority in a manner that facilitates the marketing of agricultural commodities and makes copies of official standards available upon request. The United States Standards for Grades of Fruits and Vegetables not connected with Federal marketing orders or U.S. import requirements no longer appear in the Code of Federal Regulations, but are maintained by USDA, AMS, Specialty Crops Program, and are available on the Internet at http://www.ams.usda.gov/grades-standards.

AMS is revising the voluntary United States Standards for Grades of Cauliflower using the procedures that appear in Part 36, Title 7 of the Code of Federal Regulations (7 CFR part 36). The cauliflower grade standards in §§ 51.540 to 51.556 were last revised March 15, 1968.

Background and Comments

On February 9, 2012, AMS published a notice in the Federal Register (77 FR 6772) soliciting comments on proposed revisions to the United States Standards for Grades of Cauliflower. The industry expressed some confusion about the meaning of some of the proposed revisions and requested clarification. Following the comment period, AMS determined it would not proceed with the revisions as proposed.

On May 9, 2016, AMS addressed the industry concerns and clarified the issues from the previous notice by publishing in the Federal Register (81 FR 28046) a second notice soliciting comments on proposed revisions to the United States Standards for Grades of Cauliflower. No comments were received on this second proposal.

Based on the information gathered from the industry, AMS is revising the U.S. No. 1 cauliflower color standards by adding the phrase “unless otherwise specified” to the basic requirement for color in § 51.540(a)(3). The phrase “unless otherwise specified” in regards to color will be interpreted as follows: When colors other than white, creamy white, or cream color are specified, cauliflower heads of those colors may be certified to a grade. Likewise, when designated as a mixed-color pack, one grade may be applied to all the cauliflower colors in the pack, not just to the curds that are white, creamy white, or cream color. For example, a grade may be applied to a pack containing a green, an orange, a purple, and a white cauliflower curd when specified as a mixed-color pack.

AMS is also revising the U.S. No. 1 size provisions in § 51.540(a)(4) for cauliflower heads to read as follows: “Size—not less than 4 inches in diameter, unless marked to a maximum diameter of less than 4 inches. Cauliflower curds marked less than four inches may not be comingled with cauliflower curds packed to be 4 inches and larger. For marking requirements see § 51.556.”

To explain the marking requirements, AMS is adding “§ 51.556 Marking Requirements,” which reads as follows: “When the product is packed to be less than 4 inches in maximum diameter, 90 percent or more of the master containers shall be plainly stamped, printed, labeled, or otherwise marked with the maximum diameter. The term `maximum' or its recognized abbreviation, when following a diameter size marking, means that the curds are of the size marked or smaller.” The current § 51.556, Metric Conversion Table, is redesignated as § 51.557.

Furthermore, curds that are specified to be less than 4 inches in maximum diameter do not include cauliflower florets, since florets are pieces of curd and not considered small heads of cauliflower. Therefore, florets cannot be certified to a grade.

Revisions to the cauliflower color and size requirements also apply to the U.S. Commercial grade. The U.S. Commercial grade consists of heads of cauliflower which meet the requirements of U.S. No. 1 grade except for increased defect tolerances.

In addition, AMS is removing the “Unclassified” cauliflower category from the standards. The unclassified section is being removed from all standards as they are otherwise revised. This category is not a grade and only serves to show that no grade has been applied to the lot. It is no longer considered necessary.

AMS believes that permitting all colors, mixed-color packs, and smaller sizes of cauliflower to be certified to a grade reflects current marketing practices and consumer demand, and will facilitate the marketing of cauliflower by providing the industry with more flexibility.

The official grade of a lot of cauliflower covered by these standards will be determined by the procedures set forth in the Regulations Governing Inspection, Certification, and Standards of Fresh Fruits, Vegetables and Other Products (7 CFR 51.1, 7 CFR 51.61).

The United States Standards for Grades of Cauliflower will be effective 30 days after publication of this notice in the Federal Register.

Authority: 7 U.S.C. 1621-1627.

Dated: May 19, 2017.
Bruce Summers,
Acting Administrator, Agricultural Marketing Service.

[FR Doc. 2017-10674 Filed 5-24-17; 8:45 am]

BILLING CODE 3410-02-P